DEPARTMENT OF AGRICULTURE

Agricultural Marketing Service

7 CFR Part 205

[Docket Number: TMD-00-02-FR]

RIN 0581-AA40

National Organic Program; Correction of the Effective Date Under Congressional Review Act (CRA)

AGENCY: Agricultural Marketing Service, USDA.

ACTION: Final rule: correction of effective date under CRA.

SUMMARY: The Agricultural Marketing Service (AMS) is correcting the effective date of the final rule (65 FR 80548), promulgated under the Organic Foods Production Act of 1990, that establishes the National Organic Program (NOP). The NOP establishes national standards for the production and handling of organically produced products, including a national list of substances approved for or prohibited from use in organic production and handling. This change in the effective date meets the requirements of the Congressional Review Act (CRA) enacted as part of the Small Business Regulatory Enforcement Fairness Act of 1996 (5 U.S.C. 801-808), which requires that, before this rule can take effect, AMS must submit a copy of the rule to each House of the Congress and to the Comptroller General, together with a concise general statement of the rule and its proposed effective date. This information was provided to Congress and the Comptroller General on February 20, 2001.

EFFECTIVE DATE: The effective date of the final rule published at 65 FR 80548, December 21, 2000, is corrected to April 21, 2001.

FOR FURTHER INFORMATION CONTACT: Richard Mathews, Senior Agricultural Marketing Specialist, USDA-AMS-TMP-NOP, Room 2510-So., Ag Stop 0268, P.O. Box 96456, Washington, DC 20090-6456; Telephone: (202) 205-7806; Fax: (202) 205-7808.

SUPPLEMENTARY INFORMATION: The final rule published at 65 FR 80548 establishes the NOP under the direction of AMS, an arm of the United States Department of Agriculture (USDA). The NOP will facilitate domestic and international marketing of fresh and processed food that is organically produced and assure consumers that such products meet consistent, uniform standards. The NOP establishes national standards for the production and handling of organically produced products, including a national list of substances approved for or prohibited from use in organic production and handling. The NOP includes a national accreditation program for state officials and private persons who want to be accredited as certifying agents. Under the NOP, certifying agents will certify whether production and handling operations comply with the requirements of 7 CFR part 205, and will enforce program requirements. The final rule includes requirements that products must meet to be labeled as organic or as containing organic ingredients. The program is authorized under the Organic Foods Production Act of 1990.

This action corrects the effective date of the final rule in order to meet the requirements of the Small Business Regulatory Enforcement Fairness Act of 1966 (5 U.S.C. 801-808). The act requires that before a final rule can take effect, it must be submitted to each House of the Congress and to the Comptroller General, along with a concise general statement of the rule and its proposed effective date. We have determined that the report to Congress and to the Comptroller General was not received, as previously thought, concurrent with the transmission of the rule to the Federal Register. This information was provided to Congress and the Comptroller General on February 20, 2001. Under 5 U.S.C. 801-808, the effective date of a major rule is, as pertinent here, “the later of the date occurring 60 days after the date on which * * * the Congress received the [required] report * * * or * * * the rule is published in the Federal Register * * *”. Thus the published effective date which was 60 days following the date of publication of the rule in the Federal Register, is erroneous; rather the actual effective date of the rule is 60 days after the receipt by Congress of the final rule, or April 21, 2001. This final rule corrects the previously published effective date.

Because the correction of the effective date is required by law, we find good cause under 5 U.S.C. 553(b)(3)(B) and 555(d)(3) to waive public comment thereon.

The rule is now scheduled to become effective on April 21, 2001.

Dated: March 14, 2001.
Kenneth C. Clayton,
Acting Administrator, Agricultural Marketing Service.

[FR Doc. 01-6836 Filed 3-19-01; 8:45 am]

BILLING CODE 3410-02-P